DEPARTMENT OF HEALTH AND HUMAN SERVICES

Health Resources and Services Administration

Ricky Ray Hemophilia Relief Fund Program Administrative Close-Out

AGENCY: Health Resources and Services Administration, HHS.

ACTION: Notice.

SUMMARY: This Notice announces the administrative close-out of the Ricky Ray Hemophilia Relief Fund Program (the Program). All business concerning petitions and related payment documentation associated with the Program will conclude on October 31, 2005.

As of that date, the Program will cease to accept or process any additional documentation submitted by individuals (or their representatives) relating to the eligibility or payment of petitions still pending. Remaining funds will be returned to the United States Treasury, and the Program will archive all outstanding documentation at the Washington National Records Center in Suitland, Maryland, in accordance with the requirements of the National Archives and Records Administration.

DATES: Effective Date: October 31, 2005.

ADDRESSES: Ricky Ray Hemophilia Relief Fund Program, Healthcare Systems Bureau, Health Resources and Services Administration, U.S. Department of Health and Human Services, 5600 Fishers Lane, Room 11C-06, Rockville, Maryland 20857.

FOR FURTHER INFORMATION CONTACT: Paul T. Clark, Director, Ricky Ray Hemophilia Relief Fund Program, 5600 Fishers Lane, Room 11C-06, Rockville, MD 20857; (301) 443-2330.

SUPPLEMENTARY INFORMATION: The Program implemented the Ricky Ray Hemophilia Relief Fund Act of 1998 (the Act), Pub. Law 105-369. The Act established a Trust Fund to provide compassionate payments to individuals with blood-clotting disorders, such as hemophilia, who were treated with antihemophilic factor between July 1, 1982 and December 31, 1987, and contracted human immunodeficiency virus (HIV), as well as to certain persons who contracted HIV from these individuals. In the event individuals eligible for payment were deceased, the Act also provided for payments to certain survivors of these individuals.

Under section 101(d) of the Act, the Trust Fund terminated on November 12, 2003. The Act requires all remaining funds to be deposited in the miscellaneous receipts account in the Treasury of the United States.

The Program has made compassionate payments totaling in excess of $559 million to more than 7,171 eligible individuals and survivors.

Dated: September 22, 2005.
Dennis P. Williams,
Deputy Administrator.

[FR Doc. 05-19430 Filed 9-28-05; 8:45 am]

BILLING CODE 4165-15-P